DEPARTMENT OF HEALTH AND HUMAN SERVICES

Centers for Disease Control and Prevention

[60 Day-01-18]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Anne O'Connor, CDC Assistant Reports Clearance Officer, 1600 Clifton Road, MS-D24, Atlanta, GA 30333. Written comments should be received within 60 days of this notice.

Proposed Project

X-ray Examination Program—Extension—OMB No. 0920-0020 National Institute for Occupational Safety and Health (NIOSH), Centers for Disease Control and Prevention (CDC). The X-ray Examination Program is a federally mandated program under the Federal Mine Safety and Health Act of 1977, PL-95-164. The Act provides the regulatory guidance for the administration of the National Coal Workers' X-ray Surveillance Program, a surveillance program to protect the health and safety of underground coal miners. This program requires the gathering of information from coal mine operators, participating miners, participating x-ray facilities, and participating physicians. The Appalachian Laboratory for Occupational Safety and Health (ALOSH), National Institute for Occupational Safety and Health (NIOSH) is charged with administration of this program. Based on an average of $15.00 per hour for all respondents, the total cost to respondents is $71,865.

Respondents | Number of respondents | Number of responses/ respondent | Avg. burden/ response in hours | Total burden in hours
Physicians/interpretation | 20,000 | 1 | 3/60 | 1,000
Physician/certification | 350 | 1 | 10/60 | 58
Miners | 10,000 | 1 | 20/60 | 3,333
Mine operators | 500 | 1 | 30/60 | 250
Facilities | 300 | 1 | 30/60 | 150
Total |  |  |  | 4,791

Dated: January 18, 2001.
Nancy Cheal,
Acting Associate Director for Policy, Planning, and Evaluation, Centers for Disease Control and Prevention (CDC).

[FR Doc. 01-2228 Filed 1-24-01; 8:45 am]

BILLING CODE 4163-18-P